DEPARTMENT OF HOMELAND SECURITY

Coast Guard

33 CFR Parts 100 and 165

[Docket Number USCG-2015-0125]

RIN 1625-AA08 and 1625-AA00

Special Local Regulations and Safety Zones; Marine Events Held in the Sector Long Island Sound Captain of the Port Zone

AGENCY: Coast Guard, DHS.

ACTION: Temporary final rule.

SUMMARY: The Coast Guard is establishing eight special local regulations for eight separate marine events and establishing six safety zones for fireworks displays within the Coast Guard Sector Long Island Sound (LIS) Captain of the Port (COTP) Zone. This temporary final rule is necessary to provide for the safety of life on navigable waters during these events. Entry into, transit through, mooring or anchoring within these regulated areas and safety zones is prohibited unless authorized by COTP Sector Long Island Sound.

DATES: This rule is effective without actual notice from 12:01 a.m. on May 18, 2015 until 5:30 p.m. on September 20, 2015. For the purposes of enforcement, actual notice will be used from the date the rule was signed, April 22, 2015, until May 18, 2015.

ADDRESSES: Documents mentioned in this preamble are part of docket [USCG-2015-0125]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, contact Petty Officer Ian Fallon, Prevention Department, Coast Guard Sector Long Island Sound, telephone (203) 468-4565, email Ian.M.Fallon@uscg.mil. If you have questions on viewing or submitting material to the docket, call Cheryl Collins, Program Manager, Docket Operations, telephone (202) 366-9826.

SUPPLEMENTARY INFORMATION:

Table of Acronyms

COTP Captain of the Port

DHS Department of Homeland Security

FR Federal Register

NPRM Notice of Proposed Rulemaking

A. Regulatory History and Information

This rulemaking establishes eight special local regulations for four regattas, two swim events, one fireworks display and one air show and six safety zones for six fireworks displays. Each event and its corresponding regulatory history is discussed below.

Special Local Regulations:

Aquapalooza (regatta): A special local regulation was established in 2014 for the Aquapalooza event when the Coast Guard issued a temporary rule entitled, “Special Local Regulations and Safety Zones; Marine Events in Captain of the Port Long Island Sound Zone”. This rule was published on August 12, 2014 in the Federal Register (79 FR 46997).

Great Peconic Race (regatta): A special local regulation was established in 2014 for the Great Peconic Race event when the Coast Guard issued a temporary rule entitled, “Special Local Regulation and Safety Zone; Marine Events in Captain of the Port Long Island Sound Zone”. This rule was published on August 29, 2014 in the Federal Register (79 FR 51479).

Kayak for Camp (regatta): Is a recurring marine event with no regulatory history.

Connecticut River Raft Race (regatta): A special local regulation was established in 2014 for the Connecticut River Raft Race event when the Coast Guard issued temporary rule entitles, “Special Local Regulations and Safety Zones; Marine Events in Captain of the Port Long Island Zone”. This rule was published on August 12, 2014 in the Federal Register (79 FR 46997).

Fran Schnarr Open Water Championship (Swim): Is a recurring marine event with regulatory history. This event was previously named Huntington Bay Open Water Championships Swim (78 FR 31402, May 24, 2013) and the event is being held in a different location this year.

Riverhead Rocks Triathlon (swim): A special local regulation was established in 2014 for the Riverhead Rocks Triathlon event when the Coast Guard issued a temporary rule entitled, “Safety Zones; Marine Events in Captain of the Port Long Island Sound Zone”. This rule was published on August 18, 2014 in the Federal Register (79 FR 48685).

Jones Beach State Park (fireworks): Is a reoccurring marine event with regulatory history. This event is in Table 1 to 33 CFR 165.151 (7.19). We will be using a Special Local Regulation this year for this event due to a determination that a safety zone will be insufficient to mitigate the event's extra and unusual hazards.

Jones Beach (Air Show): A special local regulation was established in 2014 for the Jones Beach Air Show event when the Coast Guard issued a final rule entitled, “Special Local Regulation; Jones Beach Air Show; Atlantic Ocean, Sloop Channel Through East Bay, and Zach's Bay; Wantagh, NY”. This rule was published on May 21, 2014 in the Federal Register (79 FR 29088).

Safety Zones:

Village of Saltaire (fireworks): A special local regulation was established in 2014 for the Village of Saltaire event when the Coast Guard issued a temporary rule entitled, “Safety Zones; Marine Events in Captain of the Port Long Island Sound Zone”. This rulemaking was published on August 18, 2014 in the Federal Register (79 FR 48685).

USCG Academy Fireworks Entertainment (fireworks): Is a first time marine event with no regulatory history.

Boys and Girls Club—Beach Ball 2015 (fireworks): Is a first time marine event with no regulatory history.

Marine at American Wharf (fireworks): Is a first time event with no regulatory history.

Cherry Grove Pride Week (fireworks): Is a first time marine event with no regulatory history.

Riverfest (Fireworks): Is a reoccurring marine event with regulatory history. This event is in Table 1 to § 165.151(7.23). This event is in this temporary rule due to deviation from the date and position listed in the § 165.151 regulation.

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because doing so would be impracticable and unnecessary. The Coast Guard did not receive the information about the events early enough to publish a Notice of Proposed Rulemaking before the scheduled event dates. In addition, publishing an NPRM is unnecessary for this rule because most of these events are familiar to the community as recurring annual community events. Thus, waiting for a comment period to run would inhibit the Coast Guard's ability to fulfill its mission to keep the ports and waterways safe.

Under 5 U.S.C. 553(d)(3), and for the same reasons stated in the preceding paragraph, the Coast Guard finds that good cause exists for making this rule effective less than 30 days after publication in the Federal Register.

B. Basis and Purpose

The legal basis for this temporary rule is 33 U.S.C. 1231, 1233; 50 U.S.C. 191; 33 CFR 1.05-1, 6.04-1, 6.04-6 and 160.5; Department of Homeland Security Delegation No. 0170.1, which collectively authorize the Coast Guard to establish regulatory special local regulations and safety zones.

As discussed in the Regulatory History and Information section, four regattas, seven fireworks displays, two swim events, and one air show will take place in the Coast Guard Sector LIS COTP Zone between April 25, 2015 and September 20, 2015. The COTP Long Island Sound has determined that the eight special local regulations and the six safety zones established by this temporary final rule are necessary to provide for the safety of life on navigable waterways during those events.

Aquapalooza is a boating event open to the Public that attracts many people and boats into Zach's Bay near Jones Beach State Park in Wantagh, NY. The event sponsor expects to have 500 participants. As such, a large number of boats will be operating in close proximity to each other and to swimmers in a nearby designated swim area. Many of these vessels will be operating at dangerous speeds given the congested conditions during the event and at the conclusion of the vent when a large number of vessels will be departing Zach's Bay within a relatively short period of time. These conditions are especially hazardous for any vessels attempting to navigate in the southbound direction, against the flow of the main vessel traffic at the conclusion of the event. The Coast Guard determined that a special local regulation that restricts vessel speed and the flow of vessel traffic will improve the safety of waterway users.

Kayak for Camp is a kayak and paddleboard event that starts at Harbor View Beach, Norwalk, CT to Green's Ledge Light, Norwalk, CT and back to Harbor View Beach, Norwalk, CT. There are two courses in this event; the first course is broken into two different races with distances of 2 miles and 8 miles and the second course is 4 miles long. One safety boat will be present behind the race participants for assistance.

Great Peconic Race is a kayak, surf ski and paddleboard event that starts and ends at Wades Beach on Shelter Island. The race course circumnavigates Shelter Island with a total distance of 19 miles. On the south shore, two event safety vessels will be present with a member of the South Ferry Company Inc. staff with a red flag to stop and then wave paddlers on for safe crossing. One safety boat will be present on the north shore to assist paddlers as well.

Riverhead Rocks Triathlon will be held in Riverhead, NY, with the swimming portion in the Peconic River. The swim course will be along the shoreline of the river, with life guards and safety boats present to assist the race participants.

Fran Schnarr Open Water Championship Swim is an open water swim event that will be held in Huntington Harbor, Huntington Bay, NY. The race course will be along the north shore of Huntington Bay, NY.

Jones Beach State Park fireworks display attracts thousands of spectators to Jones Beach State Park as well as a significant number of spectator vessels to the waters around Jones Beach State Park. The operation of numerous spectator vessels in such close proximity to each other presents additional hazards to the maritime public. The COTP Sector Long Island Sound has determined that these hazards pose a danger to the maritime public. This special local regulation will temporarily regulate three areas around the Jones Beach State Park fireworks display, including portions of the Atlantic Ocean, the navigable waters between Meadowbrook State Parkway and the Wantagh State Parkway, and Zach's Bay. The three areas will be defined as “No Entry Area,” “Slow/No Wake Area,” and “No Southbound Traffic Area.”

Jones Beach Air Show attracts thousands of spectators to Jones Beach State Park as well as a significant number of spectator vessels to the waters around Jones Beach State Park. The operation of numerous spectator vessels in such close proximity to each other presents additional hazards to the maritime public beyond those associated with the aerial activities. The COTP Sector Long Island Sound has determined that these hazards pose a danger to the maritime public. This special local regulation will temporary regulate three areas around the Jones Beach Air Show, including portions of the Atlantic Ocean, the navigable waters between Meadowbrook State Parkway and the Wantagh State Parkway, and Zach's Bay. The three areas will be defined as “No Entry Area,” “Slow/No Wake Area,” and “No Southbound Traffic Area.”

The geographic locations of these regulated areas and the specific requirements of this rule are contained in the regulatory text. This regulation prevents vessels from entering, transiting, remaining, or anchoring within the area designated as a “No Entry Area” during the periods of enforcement, unless authorized by the COTP or designated representative. This regulation also partially restricts movement within the “Slow/No Wake Area” and the “No Southbound Traffic Area” unless authorized by the COTP or designated representative.

Connecticut River Raft Race involves many participants operating human-powered and/or sail-powered vessels of their own design and construction along a stretch of the Connecticut River near Middletown, CT. Due to the hazards facing these participants, including the unknown and/or untested seaworthiness of their vessels and potential limitations to vessel navigation and/or maneuverability, the Coast Guard determined that a special local regulation that restricts vessel speed and operation is needed to protect participants, spectators and other waterway users during the event.

USCG Academy Fireworks Entertainment display will be held on the Thames River in New London, CT.

Boys and Girls Club—Beach Ball 2015 fireworks display will be held on Bellport Bay, Bellport, NY.

Marina at American Wharf fireworks display will be held on the Thames River, Norwich, CT.

Cherry Grove Pride Week fireworks display will be held on Great South Bay, Cherry Grove, NY.

Village of Saltaire fireworks display will be held on Great South Bay, Bay Shore, NY.

Riverfest Fireworks display will be held on the Connecticut River, Hartford, CT.

C. Discussion of the Temporary Final Rule

This rule establishes eight special local regulations for four regattas, two swim events, one fireworks display, and one air show and six safety zones for six fireworks displays. The locations of these special regulated areas and safety zones are described in the regulatory text.

The fireworks displays will launch pyrotechnics from either a barge or a landsite near a waterway. A regulated area, specifically a safety zone, is required for each of these fireworks displays to protect both spectators and participants from the safety hazards created by the burning debris.

The special local regulation established for Aquapalooza includes two measures to reduce the risks to waterways users of Zach's Bay before, during, and after the event. The first measure restricts vessel movement within the regulated area to no wake speed or 6 knots, whichever is slower on July 26, 2015 from 11:30 a.m. to 8 p.m. The second measure restricts all vessel movement within the regulated area to the outbound or northbound direction on July 26, 2015 from 3 p.m. to 5:30 p.m.

Kayak for Camp is a rowing regatta that will take place in Norwalk Harbor near Norwalk, CT. This special local regulation proposes two temporary regulated areas to restrict vessel movement within the regulated areas of Norwalk Harbor to no wake speeds or 6 knots, whichever is slower.

Great Peconic Race regulated area would encompass all navigable waters of the United States of the Peconic River, Shelter Island, NY, inside two areas. This special local regulation proposes two temporary regulated areas in which event non-participants must travel at a no-wake speed and remain vigilant at all times for event participants. Additionally, recreational vessels must yield right-of-way for event participants and event safety craft, and follow directions given by event representatives during the event. Commercial vessels will have right-of-way over event participants and event safety craft.

Riverhead Rocks Triathlon incorporates swim legs that will place many swimmers in the navigable waters of the Peconic River. A regulated area is required to minimize the hazards posed by spectators and other waterway users operating their vessels in close proximity to the event participants. The special local regulation established for this swim event will minimize the risks to the event participants from this type of boat traffic and improve visibility and maneuverability for the safety vessels supporting the swim event.

Fran Schnarr Open Water Championship Swim will place many swimmers in the navigable waters of Huntington Harbor. A regulated area is required to minimize the hazards posed by spectators and other waterway users operating their vessels in close proximity to the event participants. The special local regulation established for this swim event will minimize the risks to the event participants from this type of boat traffic and improve visibility and maneuverability for the safety vessels supporting the swim event.

Jones Beach State Park fireworks display attracts thousands of spectator craft every year to Jones Beach State Park. Three regulated areas will be set to address the safety concerns with high vessel traffic. A “No Entry Area” will be set around the fireworks barge to ensure spectators maintain a safe distance from the barge. A “Slow/No Wake Area” will be set in the navigable waters between Meadow Brook State Parkway and Wantagh State Parkway. All vessels in the area will operate at “No Wake” speed or up to 6 knots, whichever is slower. A “No Southbound Traffic Area” will be set in all waters of Zach's Bay. No southbound vessel traffic will be allowed into or within this area.

Jones Beach Air Show involves numerous aircraft performing various aerial maneuvers which present multiple hazards, including those associated with in-flight accidents. This event attracts thousands of spectators and spectator craft which pose their own hazards. Three regulated areas will be set to address the safety concerns. A “Slow/No Wake Area” will be set in the navigable waters between Meadow Brook State Parkway and Wantagh State Parkway. All vessels in the area will operate at “No Wake” speed or up to 6 knots, whichever is slower. A “No Southbound Traffic Area” will be set in all waters of Zach's Bay. No southbound vessel traffic will be allowed into or within this area.

The special local regulation established for the Connecticut River Raft Race restricts vessel movement within the regulated area of the Connecticut River to no wake speed or 6 knots, whichever is slower, and also stipulates that vessels must not anchor, block, loiter, or impede the transit of event participants or official patrol vessels in the regulated areas unless authorized by COTP or designated representatives.

This rule prevents vessels from entering, transiting, mooring, or anchoring within areas specifically designated as safety zones and establishes additional vessel movement rules within areas specifically under the jurisdiction of the special local regulations during the periods of enforcement unless authorized by the COTP or designated representative.

Public notifications will be made to the local maritime community prior to each event through the Local Notice to Mariners and Broadcast Notice to Mariners.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The Coast Guard determined that this rulemaking is not a significant regulatory action for the following reasons: The enforcement of these regulated areas and safety zones will be relatively short in duration. Also, persons or vessels desiring entry into a regulated area or a deviance from the stipulations within a regulated area may be authorized to do so by the COTP Sector Long Island Sound or designated representative. Additionally, persons or vessels desiring to enter a safety zone may do so with permission from the COTP Sector Long Island Sound or designated representative. Furthermore, these special local regulations and safety zones are designed in a way to limit impacts on vessel traffic, permitting vessels to navigate in other portions of the waterways not designated as a regulated area or as a safety zone. Finally, to increase public awareness of these special local regulations and safety zones, the Coast Guard will notify the public of the enforcement of this rule via appropriate means, such as via Local Notice to Mariners and Broadcast Notice to Mariners.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

This temporary final rule will affect the following entities, some of which may be small entities: The owners or operators of vessels intending to enter, transit, anchor, or moor within a regulated area or a safety zone during the periods of enforcement, from April 25, 2015 to September 20, 2015. However, this temporary final rule will not have a significant economic impact on a substantial number of small entities for the same reasons discussed in the Regulatory Planning and Review section.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above. The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves the establishment of special local regulations and safety zones. This rule is categorically excluded from further review under paragraph 34(g) and (h) of Figure 2-1 of the Commandant Instruction. An environmental analysis checklist supporting this determination and a Categorical Exclusion Determination are available in the docket where indicated under ADDRESSES. We seek any comments or information that may lead to the discovery of a significant environmental impact from this rule.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 continues to read as follows:

Authority: 33 U.S.C. 1233.

2. Add § 100.35T01-0125 to read as follows:

§ 100.35T01-0125 Special Local Regulations; Marine Events in Captain of the Port Long Island Sound Zone.

(a) Regulations. The general regulations contained in 33 CFR 100.35 as well as the following regulations apply to the marine events listed in Table to § 100.35T01-0125.

(b) Enforcement periods. This section will be enforced on the dates and times listed for each event in Table to § 100.35T01-0125.

(c) Definitions. The following definitions apply to this section:

Designated Representative. A “designated representative” is any commissioned, warrant or petty officer of the U.S. Coast Guard who has been designated by the Captain of the Port (COTP), Sector Long Island Sound, to act on his or her behalf. The designated representative may be on an official patrol vessel or may be on shore and will communicate with vessels via VHF-FM radio or loudhailer. While members of the Coast Guard Auxiliary will not serve as the designated representative, they may be present to inform vessel operators of this regulation.

Official Patrol Vessels. Official patrol vessels may consist of any Coast Guard, Coast Guard Auxiliary, state, or local law enforcement vessels assigned or approved by the COTP.

(d) Vessel operators desiring to enter or operate within the regulated areas shall contact the COTP at 203-468-4401 (Sector Long Island Sound command center) or the designated representative via VHF channel 16.

(e) Vessels may not transit the regulated areas without the COTP or designated representative approval. Vessels permitted to transit must operate at a no wake speed or 6 knots, whichever is slower, and operate in a manner which will not endanger event participants or other crafts in the event.

(f) The COTP or designated representative may control the movement of all vessels in the regulated area. When hailed or signaled by an official patrol vessel, a vessel must come to an immediate stop and comply with the lawful directions issued. Failure to comply with a lawful direction may result in expulsion from the area, citation for failure to comply, or both.

(g) The COTP or designated representative may delay or terminate any marine event in this section at any time it is deemed necessary to ensure the safety of life or property.

(h) The additional stipulations listed in Table to § 100.35T01-0125 also apply for the event in which they are listed.

Table to § 100.35T01-0125
1 Jones Beach Air Show | • Date: May 21 through 24, 2015. • Time: (1) The “No Entry Area” will be enforced each day from the start of the air show until 30 minutes after it concludes.
| (2) The “Slow/No Wake Area” and the “No Southbound Traffic Area” will be enforced each day for 6 hours after the air show concludes.
| • Location: “No Entry Area”: Waters of the Atlantic Ocean off Jones Beach State Park, Wantagh, NY contained within the following described area; Beginning in approximate position 40°34′54″ N, 073°33′21″ W, then running east along the shoreline of Jones Beach State Park to approximate position 40°35′53″ N, 073°28′48″ W; then running south to a position in the Atlantic Ocean off of Jones Beach at approximate position 40°35′05″ N, 073°28′34″ W; then running West to approximate position 40°33′15″ N, 073°33′09″ W; then running North to the point of origin.
| “Slow/No Wake Area”: All navigable waters between Meadowbrook State Parkway and Wantagh State Parkway and contained within the following area. Beginning in approximate position 40°35′49.01″ N 73°32′33.63″ W then north along the Meadowbrook State Parkway to its intersection with Merrick Road in approximate position 40°39′14.00″ N 73°34′00.76″ W then east along Merrick Road to its intersection with Wantagh State Parkway in approximate position 40°39′51.32″ N 73°30′43.36″ W then south along the Wantagh State Parkway to its intersection with Ocean Parkway in approximate position 40°35′47.30″ N 73°30′29.17″ W then west along Ocean Parkway to its intersection with Meadowbrook State Parkway at the point of origin in approximate position 40°35′49.01″ N 73°32′33.63″ W.
| “No Southbound Traffic Area”: All navigable waters of Zach's Bay south of the line connecting a point near the western entrance to Zach's Bay in approximate position 40°36′29.20″ N, 073°29′22.88″ W and a point near the eastern entrance of Zach's Bay in approximate position 40°36′16.53″ N, 073°28′57.26″ W.
2 Jones Beach State Park Fireworks | • Date: July 4, 2015. • Rain Date: July 5, 2015. • Time: 9 p.m. to 10:25 p.m. • “No Entry Area”: All waters off of Jones Beach State Park, Wantagh, NY within a 1000 foot radius of the launch platform in approximate position 40°34′56.68″ N, 073°30′31.19″ W (NAD 83).]
| “Slow/No Wake Area”: All navigable waters between Meadowbrook State Parkway and Wantagh State Parkway and contained within the following area. Beginning in approximate position 40°35′49.01″ N 73°32′33.63″ W then north along the Meadowbrook State Parkway to its intersection with Merrick Road in approximate position 40°39′14.00″ N 73°34′00.76″ W then east along Merrick Road to its intersection with Wantagh State Parkway in approximate position 40°39′51.32″ N 73°30′43.36″ W then south along the Wantagh State Parkway to its intersection with Ocean Parkway in approximate position 40°35′47.30″ N 73°30′29.17″ W then west along Ocean Parkway to its intersection with Meadowbrook State Parkway at the point of origin in approximate position 40°35′49.01″ N 73°32′33.63″ W.
| “No Southbound Traffic Area”: All navigable waters of Zach's Bay south of the line connecting a point near the western entrance to Zach's Bay in approximate position 40°36′29.20″ N, 073°29′22.88″ W and a point near the eastern entrance of Zach's Bay in approximate position 40°36′16.53″ N, 073°28′57.26″ W.
3 Kayak For Camp | • Date: July 11, 2015. • Time: 4:30 a.m. to 1:30 p.m. • Location: The regulated area includes all navigable waterways of Norwalk Harbor, Norwalk, CT within 100 yards of the two regatta courses.
| Course one begins at a point on land near Harbor View Beach, Norwalk, CT at position 41°05′00″; 073°23′55.80″ W and then west to a point in Norwalk Harbor at position 41°04′56.44″ N; 073°24′07.80″ W and then south to point in Norwalk Harbor near Green Buoy 15 at position 41°04′50.16″ N; 073°24′07.20″ W and then south to a point in Norwalk Harbor near Green Buoy 13 at position 41°04′40.86″ N; 073°24′90.00″ W and the south west to a point in Norwalk Harbor near NRG Norwalk at position 41°04′12.24″ N; 073°24′30.00″ W and then south west to a point in Long Island Sound near Tavern Island at position 41°03′ 29.94″ N; 073°25′35.00″ W and then south west to a point in Long Island Sound near green buoy 1A at position 41°02′ 55.26″ N; 073°26′15.60″ W and then south west to a point in Long Island Sound near Green's Ledge Light at position 41°02′28.62″ N; 073°26′43.80″ W and then east to a point in Long Island Sound near Green's Ledge Light at position 41°02′26.88″ N; 073°26′35.40″ W and then north to a point in Long Island Sound at position 41°02′55.26″ N; 073°26′ 15.60″ W and then north back to point of origin.
| Course two begins at a point on land near Harbor View Beach, Norwalk, CT at position 41°05′00.00″; 073°23′55.80″ W and then west to a point in Norwalk Harbor at position 41°04′56.44″ N; 073°24′07.80″ W and then south to point in Norwalk Harbor near Green Buoy 15 at position 41°04′50.16″ N; 073°24′07.20″ W and then south to a point in Norwalk Harbor near Green Buoy 13 at position 41°04′40.86″ N; 073°24′90.00″ W and the south west to a point in Norwalk Harbor near NRG Norwalk at position 41°04′12.24″ N; 073°24′30.00″ W and then west to a point in Long Island Sound near Tavern Island at position 41°03′49.56″ N; 073°25′22.80″ W and the south to a point in Long Island Sound near Tavern Island at position 41°03′35.46″ N; 073°25′27.00″ W and then south east to a point in Long Island Sound near Tavern Island at position 41°03′32.76″ N; 073°25′19.20″ W and then north east to the point of origin (NAD 83). • Additional stipulations: Vessel speed in the regulated area is restricted to no wake speed or 6 knots, whichever is slower.
4 Fran Schnarr Open Water Championship | • Date: July 12, 2015. • Time: 7:45 a.m. to 1 p.m. • Location: All waters of Northport Bay, Huntington, NY within the area with the point of origin in Northport Bay at position 40°54′25.8″ N 073°24′28.8″ W and then east to a point in Northport Bay at position 40°54′31.2″ N 073°25′21.0″ W and then south east to a point in Northport Harbor at position 40°54′45.0″ N 073°23′36.6″ W and then east to the point of origin (NAD 83).
5 Connecticut River Raft Race | • Date: July 25, 2015. • Time: 9:30 a.m. to 2:30 p.m. • Location: All waters of the Connecticut River near Middletown, CT between Gildersleeve Island (Marker no. 99) 41°36′02.13″ N 072°37′22.71″ W and Portland Riverside Marina (Marker no. 88) 41°33′38.30″ N 072°37′36.53″ W (NAD 83).
| Additional Stipulations: Vessels must not anchor, block, loiter, or impede the transit of event participants or official patrol vessels in the regulated areas unless authorized by COTP or designated representative.
6 Aquapalooza | • Event type: Regatta. • Date: July 26, 2015. • Time: 11:30 a.m. to 8:30 p.m. • Location: All navigable waters of Zach's Bay south of the line connecting a point near the western entrance to Zach's Bay in approximate position 40°36′29.20″ N, 073°29′22.88″ W and a point near the eastern entrance of Zach's Bay in approximate position 40°36′16.53″ N, 073°28′57.26″ W.
| • Additional stipulations: On July 26, 2015 from 11:30 a.m. to 8 p.m. vessel speed in the regulated area is restricted to no wake speed or 6 knots, whichever is slower. On July 26, 2015 from 3 p.m. to 5:30 p.m. vessels may only transit the regulated area in the northbound direction or outbound direction.
7 Riverhead Rocks Triathlon | • Date: August 9, 2015. • Time: 6:20 a.m. to 8:30 a.m. • Location: All waters of the Peconic River, Riverhead, NY within the area bounded to the west by a line connecting points at 40°54′58.09″ N 072°39′37.56″ W on the northern bank and 40°54′56.74″ N 072°39′37.56″ W on the southern bank and bounded to the east by a line connecting points at 40°55′01.92″ N 072°38′51.08″ W on the northern bank and 40°54′59.15″ N 072°38′51.08″ W on the southern bank (NAD 83).
8 Great Peconic Races | • Date: September 20, 2015. • Time: 7:30 a.m. to 5:30 p.m. • Location: The regulated area includes all U.S. navigable waters of the Peconic River, Shelter Island, NY, of the Peconic River, Shelter Island, NY, inside two areas. The first area bound by a line extending from a point on land at Beach Point at position 41°06′25.66″ N; 072°20′04.95″ W and then straight across the Peconic River to a point on land near Cleaves Point at position 41°06′43.70″ N; 072°20′31.99″ W and then west along the shoreline to a point on land near Brick Cove Marina at position 41°04′44.91″ N; 072°23′06.25″ W and then straight across the Peconic River to a point on land near Jennings Point at position 41°04′20.46″ N; 072°22′57.60″ W and then east along the shoreline back to the point of origin (NAD 83). The second area would be bound by a line starting at a point on land near West Neck Point at position 41°02′48.14″ N; 072°20′19.34″ W and then straight across the Peconic River to a point on land near Gleason Point at position 41°02′04.91″ N; 072°19′54.47″ W and then east along the shoreline to a point on land at position 41°01′07.56″ N; 072°17′53.34″ W and the straight across the Peconic River to a point on land near Mashomack Point at position 41°01′44.68″ N; 072°16′54.87″ W and then west along the shoreline back to origin (NAD 83).
| Additional stipulations: Vessel speed in the regulated area is restricted to no wake speed or 6 knots, whichever is slower. Recreational vessels transiting in the regulated area must yield right-of-way for event participant and event safety craft and must follow directions given by event representatives during the event. Commercial vessel will have right-of-way over the event participants, and event safety craft.

PART 165—REGULATED NAVIGATION AREAS AND LIMITED ACCESS AREAS

3. The authority citation for part 165 continues to read as follows:

Authority: 33 U.S.C. 1231; 50 U.S.C. 191; 33 CFR 1.05-1, 6.04-1, 6.04-6, and 160.5; Department of Homeland Security Delegation No. 0170.1.

4. Add § 165.T01-0125 to read as follows:

§ 165.T01-0125 Safety Zones; Fireworks Displays in Captain of the Port Long Island Sound Zone.

(a) Regulations. The general regulations contained in 33 CFR 165.23 as well as the following regulations apply to the events listed in Table 1 to § 165.T01-0125.

(b) Enforcement period. This rule will be enforced on the dates and times listed for each event in Table 1 to § 165.T01-0125. If the event is delayed by inclement weather, the safety zone will be enforced on the rain date indicated in Table 1 to § 165.T01-0125.

(c) Definitions. The following definitions apply to this section:

Designated Representative. A “designated representative” is any commissioned, warrant or petty officer of the U.S. Coast Guard who has been designated by the Captain of the Port (COTP), Sector Long Island Sound, to act on his or her behalf. The designated representative may be on an official patrol vessel or may be on shore and will communicate with vessels via VHF-FM radio or loudhailer. While members of the Coast Guard Auxiliary will not serve as the designated representative, they may be present to inform vessel operators of this regulation.

Official Patrol Vessels. Official patrol vessels may consist of any Coast Guard, Coast Guard Auxiliary, state, or local law enforcement vessels assigned or approved by the COTP.

(d) Vessels desiring to enter or operate within a safety zone should contact the COTP or the designated representative via VHF channel 16 or by telephone at (203) 468-4401 to obtain permission to do so. Vessels given permission to enter or operate in a safety zone must comply with all directions given to them by the COTP Sector Long Island Sound or the designated on-scene representative.

(e) Upon being hailed by an official patrol vessel or the designated representative, by siren, radio, flashing light or other means, the operator of the vessel shall proceed as directed. Failure to comply with a lawful direction may result in expulsion from the area, citation for failure to comply, or both.

(f) Fireworks barges used in these locations will also have a sign on their port and starboard side labeled “FIREWORKS—STAY AWAY.” This sign will consist of 10 inch high by 1.5 inch wide red lettering on a white background.

TABLE 1 to § 165.T01-0125
Fireworks Events
1 USCG Academy Fireworks Entertainment | • Date: April 25, 2015. • Time: 9:45 p.m. to 10:55 p.m. • Location: All waters of the Thames River near New London, CT within 350 feet of the land launch site in approximate position 41°22′28.03″ N, 072°05′48.81″ W (NAD 83).
2 Boys and Girls Club—Beach Ball 2015 Fireworks | • Date: June 20, 2015. • Rain Date: June 21, 2015. • Time: 8:45 p.m. to 9:45 p.m. • Location: All waters of Great South Bay near Bellport, NY within 600 feet of the fireworks barge located in approximate position 40°44′39.19″ N, 073°56′27.72″ W (NAD 83).
3 Marina at America Wharf Fireworks | • Date: June 20, 2015. • Rain Date: June 21, 2015. • Time: 9 p.m. to 11 p.m. • Location: All waters of Thames River near Norwich, CT within 400 feet of the fireworks barge located in approximate position 41°31′16.835″ N, 072°04′43.327″ W (NAD 83).
4 Cherry Groves Pride Week Fireworks | • Date: June 20, 2015. • Rain Date: June 21, 2015. • Time: 8:50 p.m. to 9:50 p.m. • Location: All waters of Great South Bay near Fire Island, NY within 600 feet of the fireworks barge located in approximate position 40°39′49.06″ N, 073°05′27.99″ W (NAD 83).
5 Riverfest Fireworks | • Date: July 11, 2015. • Time: 8:30 p.m. to 10:30 p.m. • Location: All waters of Connecticut River near Hartford, CT within 500 feet of the fireworks barges located in approximate positions 41°45′41.94″ N, 072°39′50.74″ W and 41°54′38.30″ N, 072°39′48.19″ W (NAD 83).
6 Village of Saltaire Fireworks | • Date: August 1, 2015. • Rain Date: September 5, 2015. • Time: 8 p.m. to 10 p.m. • Location: All waters of Saltaire Bay near Saltaire, NY within 600 feet of the fireworks barge located in approximate position 40°38′38.60″ N, 073°12′05.06″ W (NAD 83).

Dated: April 22, 2015.
E.J. Cubanski, III,
Captain, U.S. Coast Guard, Captain of the Port Sector Long Island Sound.

[FR Doc. 2015-11930 Filed 5-15-15; 8:45 am]

BILLING CODE 9110-04-P